ENVIRONMENTAL PROTECTION AGENCY

[EPA-HQ-OECA-2013-0312; FRL-9912-93-OEI]

Information Collection Request Submitted to OMB for Review and Approval; Comment Request; Emission Guidelines for Commercial and Industrial Solid Waste Incineration (CISWI) Units (Renewal)

AGENCY: Environmental Protection Agency (EPA).

ACTION: Notice.

SUMMARY: The Environmental Protection Agency has submitted an information collection request (ICR), “Emission Guidelines for Commercial and Industrial Solid Waste Incineration (CISWI) Units (40 CFR part 60, Subpart DDDD) (Renewal)” (EPA ICR No. 2385.06, OMB Control No. 2060-0664) to the Office of Management and Budget (OMB) for review and approval in accordance with the Paperwork Reduction Act (44 U.S.C. 3501 et seq.). This is a proposed extension of the ICR, which is currently approved through June 30, 2014. Public comments were previously requested via the Federal Register (78 FR 35023) on June 11, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 28, 2014.

ADDRESSES: Submit your comments, referencing Docket ID Number EPA-HQ-OECA-2013-0312, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: The affected entities are subject to the General Provisions of the NESHAP at 40 CFR part 61, subpart A, and any changes or additions to the Provisions specified at 40 CFR part 60, subpart DDDD. Owners or operators of the affected facilities must submit initial notification, performance tests, and periodic reports and results. Owners and operators are also required to maintain records of the occurrence and duration of any startup, shutdown or malfunction in the operation of an affected facility, or any period when the monitoring system is inoperative.

Form Numbers: None.

Respondents/affected entities: Owners or operators of commercial and industrial solid waste incineration units.

Respondent's obligation to respond: Mandatory (40 CFR part 60, subpart DDDD).

Estimated number of respondents: 57 (total).

Frequency of response: Initially, occasionally, semiannually, and annually.

Total estimated burden: 7,378 hours (per year). Burden is defined at 5 CFR 1320.3(b).

Total estimated cost: $8,694,601 (per year), includes $8,271,404 annualized capital or operation & maintenance costs.

Changes in the Estimates: The change in the burden and cost estimates occurred because the standard has been in effect for more than three years and the requirements are different during initial compliance as compared to on-going compliance. The previous ICR reflected those burdens and costs associated with the initial activities for subject facilities. This includes purchasing monitoring equipment, conducting performance tests and establishing recordkeeping systems. This ICR, by in large, reflects the on-going burden and costs for existing facilities. Activities for existing source include continuously monitoring of pollutants and the submission of annual performance test results and semiannual reports of exceedances. The overall result is a decrease in burden hours and labor costs. However, there is an increase in the total O&M costs as this ICR reflects the burden associated with annual performance testing requirement of the Emission Guidelines.

In addition to the changes above, this ICR revises the number of respondents using the latest Agency estimates, and corrects the number of responses as the previous ICR incorrectly included internal records as a response. This attributes to a decrease in the number of respondents and number of responses.

Spencer W. Clark,
Acting Director, Collection Strategies Division.

[FR Doc. 2014-14934 Filed 6-25-14; 8:45 am]

BILLING CODE 6560-50-P